ENVIRONMENTAL PROTECTION AGENCY

40 CFR Part 82

[FRL-7567-4]

RIN 2060-AK28

Protection of Stratospheric Ozone: Listing of Substitutes for Ozone-Depleting Substances-n-Propyl Bromide; Correction

AGENCY: Environmental Protection Agency.

ACTION: Notice of proposed rulemaking; correction.

SUMMARY: The Environmental Protection Agency (EPA) published in the Federal Register of June 3, 2003, a Notice of Proposed Rulemaking related to the Significant New Alternatives Policy (SNAP) program's review of n-propyl bromide. During the public comment period, members of the public requested clarification or correction of a number of statements in the preamble to the proposed rule. This document identifies, corrects, and clarifies these portions of the preamble.

FOR FURTHER INFORMATION CONTACT: Margaret Sheppard. Before October 16, 2003, contact Ms. Sheppard by telephone at (202) 564-9163, by fax at (202) 565-2141, by e-mail at sheppard.margaret@epa.gov, or by mail at U.S. Environmental Protection Agency, Mail Code 6205J, Washington, DC 20460. Overnight or courier deliveries should be sent to the office location at 501 3rd Street, NW., Washington, DC 20001. Further information can be found by calling the Stratospheric Protection Hotline at (800) 296-1996, or by viewing EPA's Ozone Depletion World Wide Web site at http://www.epa.gov/ozone/snap/. On and after October 16, 2003, contact Ms. Sheppard by telephone at (202) 343-9163, by e-mail at sheppard.margaret@epa.gov, or by mail at U.S. Environmental Protection Agency, Mail Code 6205J, Washington, DC 20460. Overnight or courier deliveries on and after October 16, 2003 should be sent to the new office location at 1310 L Street, NW., Washington, DC 20005.

SUPPLEMENTARY INFORMATION: The Environmental Protection Agency published in the Federal Register of June 3, 2003 (68 FR 33284), a Notice of Proposed Rulemaking related to the Significant New Alternatives Policy (SNAP) program's review of n-propyl bromide. During the public comment period, members of the public requested clarification or correction of certain statements in the proposal, FR Doc. 03-75043, published on June 3, 2003.

In the proposed rule, FR Doc. 03-75043, published on June 3, 2003, in the “Supplementary Information” section make the following corrections:

1. On page 33286 at the top of the third column, the chemical name for HCFC-141b is corrected to read “1,1-dichloro-1-fluoroethane.”

2. On page 33286 on the 8th line down from the top of the third column, the chemical name for HCFC-225cb is corrected to read “1,3-dichloro-1,1,2,2,3-pentafluoropropane.”

3. On page 33286, on the 21st line down from the top of the third column, the chemical name for HFC-365mfc is corrected to read “1,1,1,3,3-pentafluorobutane.”

4. On page 33304, at the bottom of the third column, footnote 15 is corrected to read as follows:

“The recommended AEL for nPB is lower than that for many acceptable solvents (HFEs, ketones, HFCs, HCFC-225ca/cb, hydrocarbons), but is higher or comparable to the AEL for some acceptable solvents (d-limonene, VMSs, dichlorobenzotrifluoride, HCFC-123, methylene chloride, PCBTF). However, a direct comparison between two compounds with different AELs does not necessarily mean that using a compound with a lower AEL is more risky. Actual exposure levels will vary based upon factors other than the AEL, such as emission controls in place, work practices, ventilation, rate of spraying, and vapor pressure of the solvent.”

5. On page 33311, in the first column under the first bullet point, the following sentence appears beginning in the 51st line: “Recent regulations for hazardous air pollutants disallow use of methylene chloride in foam fabrication facilities.” This sentence is corrected to read as follows: “Recent regulations for flexible polyurethane foam fabrication facilities that are major sources of hazardous air pollutants disallow use of methylene chloride-based adhesives at loop slitters and associated equipment used to apply adhesives to bond foam.”

The National Emissions Standard for Hazardous Air Pollutants (NESHAP) for new and existing sources at flexible polyurethane foam fabrication facilities, published in the Federal Register of April 14, 2003 (68 FR 18062), does not generally disallow use of methylene chloride in all foam fabrication facilities. The NESHAP disallows the use of HAP-based adhesives at loop-slitter affected sources at plants that are major source of hazardous air pollutants (HAPs), in accordance with the compliance dates set forth in the NESHAP. Stationary sources emitting, or having the potential to emit, less than 10 tons per year of a particular HAP, such as methylene chloride, and less than 25 tons per year of any combination of HAPs are not regulated as major sources under the NESHAP and are thus considered “area sources.” EPA has listed flexible foam fabrication operations as an area source category for further scrutiny and may address HAP emissions from area sources under section 112(k) of the Clean Air Act in the future.

Users of adhesives containing methylene chloride must comply with applicable requirements of the Methylene Chloride Standard issued by the Occupational Safety and Health Administration (29 CFR 1910.1052).

Dated: September 17, 2003.
Jeanne Briskin,
Acting Director, Global Programs Division.

[FR Doc. 03-25011 Filed 10-1-03; 8:45 am]

BILLING CODE 6560-50-P